DEPARTMENT OF ENERGY

Federal Energy Regulatory Commission

[Docket No. CP08-90-000]

Sword Energy Limited; Eagle Rock Exploration Ltd.; Notice of Application To Transfer Natural Gas Act Section 3; Authorization and Presidential Permit

March 14, 2008.

On March 11, 2008, Sword Energy Limited (Sword) and Eagle Rock Exploration Ltd. (Eagle Rock) filed an application in Docket No. CP08-90-000 pursuant to section 3 of the Natural Gas Act (NGA) and section 153 of the Commission's Regulations and Executive Order No. 10485, as amended by Executive Order No. 12038, and the Secretary of Energy's Delegation Order No. 00-004.00A, effective May 16, 2006, seeking authorization to transfer Sword's existing NGA section 3 authorization and Presidential Permit to Eagle Rock, all as more fully set forth in the application which is on file with the Commission and open to the public for inspection. This filing is available for review at the Commission or may be viewed on the Commission's Web site at http://www.ferc.gov, using the “eLibrary” link. Enter the docket number excluding the last three digits in the docket number field to access the document. For assistance, please contact FERC Online Support at FERCOnlineSupport@ferc.gov or toll-free at (866) 208-3676, or for TTY, contact (202) 502-8659.

Any questions regarding the application may be directed to: Ron Chapman, Vice President of Operations, Sword Energy Limited, 300, 340-12th Avenue, SW., Calgary, Alberta T2R IL5 or call (403) 269-4040, facsimile (403) 261-1978, or e-mail: rchapman@eagler.ca.

Specifically, Sword and Eagle Rock request the Commission to issue an order: (1) Transferring Sword's NGA section 3 authorization to Eagle Rock for the operation and maintenance of facilities for the importation of natural gas from the Province of Alberta, Canada, into Glacier County, Montana; and (2) authorizing the assignment of Sword's October 6, 2006, Presidential Permit for the operation and maintenance of facilities at the Alberta, Canada/Montana import point.

The import facilities consist of: (1) A gas meter station in LSD 8-4-1-16 W4M in the Province of Alberta; (2) a 4-inch (114.3 mm) diameter pipeline located directly south of this meter station across the Canada-United States border at Section 1 T37N R5W, extending a distance of approximately 2,300 feet. The pipeline crosses the International Boundary for a distance of 30 feet (the Pipeline) and interconnects with a 4-inch (114.3 mm) diameter pipeline (the Connector Pipeline) operated by Sword. The Connector Pipeline connects with an existing North Western-operated gathering system in northern Montana at SE ¼ Section 8, Township 37N, Range 4W downstream of the North Western-operated North Moulton compressor station.

Sword and Eagle Rock state that the border facilities will remain in place and operation following the requested transfer and assignment. Sword and Eagle Rock also state that there are no current third party service agreements associated with the Sword pipeline, although Eagle Rock would be prepared to offer transportation services to any other shipper.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

The Commission strongly encourages electronic filings of comments, protests, and interventions via the internet in lieu of paper. See 18 CFR 385.2001(a)(1)(iii) and the instructions on the Commission's Web site (http://www.ferc.gov) under the “e-Filing” link.

Comment Date: April 4, 2008.

Kimberly D. Bose,
Secretary.

[FR Doc. E8-5833 Filed 3-21-08; 8:45 am]

BILLING CODE 6717-01-P